DEPARTMENT OF ENERGY

Federal Energy Regulatory Commission

[Docket No. EC00-93-000]

SOWEGA Power LLC; Notice of Filing

May 22, 2000.

Take notice that on May 17, 2000, SOWEGA Power LLC (SOWEGA Power) submitted for filing an application under Section 203 of the Federal Power Act for approval of (1) the transfer of control over SOWEGA Power's jurisdictional transmission facilities and paper facilities as a result of a transfer of ownership of SOWEGA Power from its existing owners, Grady Electric Membership Cooperative (Grady EMC) and Three Notch Electric Membership Cooperative (Three Notch EMC) to SOWEGA Energy Resources LLC, a new company to be owned by Grady EMC, Three Notch EMC, and ConerStone Operating Services, Inc., and (2) a transfer of SOWEGA Power's interest in certain 230 kV bus facilities to Baconton Power LLC.

Any person desiring to be heard or to protest such filing should file a motion to intervene or protest with the Federal Energy Regulatory Commission, 888 First Street, N.E., Washington, DC 20426, in accordance with Rules 211 and 214 of the Commission's Rules of Practice and Procedure (18 CFR 385.211 and 385.214). All such motions and protests should be filed on or before June 16, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims. htm (call 202-208-2222 for assistance).

Linwood A. Watson, Jr.,
Acting Secretary.

[FR Doc. 00-13223 Filed 5-25-00; 8:45 am]

BILLING CODE 6717-01-M